INTERNATIONAL TRADE COMMISSION

[Investigation No. 731-TA-893 (Fourth Review)]

Honey From China; Determination

On the basis of the record ¹ developed in the subject five-year review, the United States International Trade Commission (“Commission”) determines, pursuant to the Tariff Act of 1930 (“the Act”), that revocation of the antidumping duty order on honey from China would be likely to lead to continuation or recurrence of material injury to an industry in the United States within a reasonably foreseeable time.

¹ The record is defined in § 207.2(f) of the Commission's Rules of Practice and Procedure (19 CFR 207.2(f)).

Background

The Commission instituted this review on March 1, 2023 (88 FR 12992) and determined on June 5, 2023 that it would conduct an expedited review (88 FR 44841, July 13, 2023).

The Commission made this determination pursuant to section 751(c) of the Act (19 U.S.C. 1675(c)). It completed and filed its determination in this review on September 22, 2023. The views of the Commission are contained in USITC Publication 5461 (September 2023), entitled Honey from China: Investigation No. 731-TA-893 (Fourth Review).

By order of the Commission.
Issued: September 22, 2023.
Sharon Bellamy,
Supervisory Hearings and Information Officer.

[FR Doc. 2023-21091 Filed 9-26-23; 8:45 am]

BILLING CODE 7020-02-P